INTERNATIONAL TRADE COMMISSION

[USITC SE-08-031]

Government in the Sunshine Act Meeting Notice

Agency Holding the Meeting: United States International Trade Commission.

Time and Date: November 14, 2008 at 11 a.m.

Place: Room 101, 500 E Street, SW., Washington, DC 20436, Telephone: (202) 205-2000.

Status: Open to the public.

Matters to be Considered:

1. Agenda for future meetings: None.

2. Minutes.

3. Ratification List.

4. Inv. No. 731-TA-752 (Second Review) (Crawfish Tail Meat from China)—briefing and vote. (The Commission is currently scheduled to transmit its determination and Commissioners' opinions to the Secretary of Commerce on or before November 25, 2008.)

5. Outstanding action jackets: None.

In accordance with Commission policy, subject matter listed above, not disposed of at the scheduled meeting, may be carried over to the agenda of the following meeting.

By order of the Commission.
Issued: November 5, 2008.
William R. Bishop,
Hearings and Meetings Coordinator.

[FR Doc. E8-26764 Filed 11-10-08; 8:45 am]

BILLING CODE 7020-02-P